DEPARTMENT OF COMMERCE

Patent and Trademark Office

Law School Clinic Certification Program

ACTION: Notice of renewal of information collection; request for comment.

SUMMARY: The United States Patent and Trademark Office (USPTO), as required by the Paperwork Reduction Act of 1995, invites comments on the extension of an existing information collection: 0651-0081 (Law School Clinic Program).

DATES: Written comments must be submitted on or before February 24, 2020.

ADDRESSES: You may submit comments by any of the following methods:

• Email: InformationCollection@uspto.gov. Include “0651-0081 comment” in the subject line of the message.

• Federal Rulemaking Portal: http://www.regulations.gov.

• Mail: Kimberly Hardy, Office of the Chief Administrative Officer, United States Patent and Trademark Office, P.O. Box 1450, Alexandria, VA 22313-1450.

FOR FURTHER INFORMATION CONTACT: Requests for additional information should be directed to Dahlia George, Office of Enrollment and Discipline, United States Patent and Trademark Office, P.O. Box 1450, Alexandria, VA 22313-1450; by telephone at 571-272-4097; or by email to Dahlia.George@uspto.gov with “0651-0020 comment” in the subject line. Additional information about this collection is also available at http://www.reginfo.gov under “Information Collection Review.”

SUPPLEMENTARY INFORMATION:

I. Abstract

Public Law 113-227 (Dec. 16, 2014) requires the United States Patent and Trademark Office to establish regulations and procedures for application to, and participation in, the USPTO Law School Clinic Certification Program. The Program allows students enrolled in a participating law school's clinic to practice patent or trademark law before the USPTO under the direct supervision of a faculty clinic supervisor. Each clinic provides legal services on a pro bono basis for clients who qualify for assistance from the law school's clinic. By drafting, filing, and prosecuting patent and trademark applications, students gain valuable experience that would otherwise be unavailable to them while in law school. The program also facilitates the provision of pro bono services to trademark and patent applicants who lack the financial resources necessary for traditional legal representation. In 2019, there were over 60 law schools participating in the program.

This information collection covers the applications from law schools that wish to enter the program, faculty advisors who seek to become a faculty clinic supervisor, and students who seek to participate in this program. The collection also includes the required biannual reports from participating law school clinics and biennial renewals required by the program as well as the request to make special under the Law School Clinic Certification Program, which allows a limited number of applications per semester to be advanced out of turn (accorded special status) for examination if the applicant makes the appropriate showing, to provide law students with practical experience as they will be more likely to receive substantive examination of applications within the school year that the application is filed.

II. Method of Collection

By mail, facsimile, hand delivery, or electronically to the USPTO.

III. Data

OMB Number: 0651-0081.

IC Instruments and Forms: There are two forms associated with this collection.

Type of Review: Extension of a currently approved collection.

Affected Public: Individuals or households, not-for-profit institutions.

Estimated Number of Respondents: 903 responses per year. The USPTO estimates that approximately 75% of the annual responses for this collection will be submitted electronically.

Estimated Time per Response: The USPTO estimates that it will take the public from 0.5 and 40 hours, depending on the complexity of the situation, to gather the necessary information, prepare the appropriate documents, and submit the information to the USPTO.

Estimated Total Annual Respondent Burden Hours: 690 hours.

Estimated Total Annual Respondent (Hourly) Cost Burden: $145,575.

The USPTO expects that intellectual property attorneys will complete most of the items in this collection at an estimated rate of $438 per hour. The attorney rates are found in the 2017 Report of the Economic Survey published by the American Intellectual Property Law Association (AIPLA). Faculty members serving as Clinic Supervisors must be practicing attorneys and registered with the Patent Bar (for those schools handling patent matters before the USPTO on behalf of applicants). The cost for law students applying to participate in the Program is estimated to be at the 10% hourly rate for legal occupations (BLS 23-000 Legal Occupations) which is $18.04 per hour. This accounts for law students' possible employment in various entry level legal positions. Using this hourly rate, the USPTO estimates that the total respondent cost burden for this collection is $145,575 per year.

Table 3—Burden Hour/Burden Cost to Respondents
IC No. | Item | Estimated response time (hours) | Estimated annual responses | Estimated annual burden hours | Rate ($/hr) | Total hourly cost burden
|  | (a) | (b) | (a) × (b) = (c) | (d) | (c) × (d) = (e)
1 | Application by Law School to Enter the Program | 40 | 1 | 40 | $438.00 | $17,520
2 | Application by Law School Faculty Member to Become a faculty Clinic Supervisor | 1 | 5 | 5 | 438.00 | 2,190
3 | Application by Student to Become a Participant in the Program (PTO-158LS) | 0.5 | 745 | 373 | 18.04 | 6,728
4 | Biannual Report Required of Law School Clinics | 1 | 120 | 120 | 438.00 | 52,560
5 | Biennial Renewal Application by Law School | 5 | 30 | 150 | 438.00 | 65,700
6 | Request to Make Special Under the Law School Clinic Certification Program | 1 | 2 | 2 | 438.00 | 876
| Total |  | 903 | 690 |  | 145,575

Estimated Total Annual (Non-hour) Respondent Cost Burden: $1,721. There are no capital startup, maintenance, or operating fees associated with this collection. There are, however, annual (non-hour) costs in the form of postage costs.

Filing Fees

There are no filing fees associated with this collection.

Postage Costs

Currently, the USPTO does not use automated or other technological collection techniques for the items in this collection of information, but submissions are accepted electronically through email. Submissions are also accepted via postal mail and hand delivery. The USPTO expects that 75 percent of the items in this collection will be submitted electronically. Of the remaining 25 percent, the USPTO estimates that 99 percent will be submitted by mail—with the remainder submitted by hand delivery—for a total of 225 mailed submissions. The average USPS Priority Mail postage cost for a legal flat rate envelope is estimated to be $7.65. Table 4 calculates the postage costs associated with this collection.

Table 4—Annual (Non-Hour) Respondent Cost Burden
IC No. | Item | Estimated mailed responses | Estimated postage rate | Total annual (non-hour) cost burden
|  | (a) | (b) | (a) × (b) = (c)
1 | Application by Law School to Enter the Program | 1 | $7.65 | $7.65
2 | Application by Law School Faculty Member to Become a Faculty Clinic Supervisor | 1 | 7.65 | 7.65
3 | Application by Student to Become a Participant in the Program (PTO-158LS) | 185 | 7.65 | 1,415.25
4 | Biannual Report Required of Law School Clinics | 30 | 7.65 | 229.50
5 | Biennial Renewal Application by Law School | 7 | 7.65 | 53.55
6 | Request to Make Special Under the Law School Clinic Program | 1 | 7.65 | $7.65
| Total | 225 |  | 1,721

Therefore, the USPTO estimates that the total annual (non-hour) cost burden for this collection, in the form of postage costs is $1,721 per year.

IV. Request for Comments

Comments submitted in response to this notice will be summarized and/or included in the request for OMB approval. All comments will become a matter of public record.

The USPTO is soliciting public comments to:

(a) Evaluate whether the proposed collection of information is necessary for the proper performance of the functions of the agency, including whether the information will have practical utility;

(b) Evaluate the accuracy of the agency's estimate of the burden of the proposed collection of information, including the validity of the methodology and assumptions used;

(c) Enhance the quality, utility, and clarity of the information to be collected; and

(d) Minimize the burden of the collection of information on those who are to respond, including through the use of appropriate automated, electronic, mechanical, or other technological collection techniques or other forms of information technology, e.g., permitting electronic submission of responses.

Kimberly Hardy,
Information Collection Officer, Office of the Chief Administrative Officer, United States Patent and Trademark Office.

[FR Doc. 2019-27832 Filed 12-23-19; 8:45 am]

BILLING CODE 1410-30-P